DEPARTMENT OF COMMERCE

International Trade Administration

[A-337-806]

Notice of Final Results of Antidumping Duty Administrative Review: Individually Quick Frozen Red Raspberries From Chile

AGENCY: Import Administration, International Trade Administration, Department of Commerce.

SUMMARY: On August 6, 2004, the Department of Commerce (“the Department”) published the preliminary results of the administrative review of the antidumping duty order on individually quick frozen red raspberries from Chile. We gave interested parties an opportunity to comment on the preliminary results and have made certain changes for the final results. We find that certain companies reviewed sold individually quick frozen red raspberries from Chile in the United States below normal value during the period December 31, 2001, through June 30, 2003.

DATES: Effective Date: February 8, 2005.

FOR FURTHER INFORMATION CONTACT: Yasmin Bordas or Cole Kyle, Office 1, AD/CVD Operations, Office 1, Import Administration, International Trade Administration, U.S. Department of Commerce, 14th Street and Constitution Avenue, NW., Washington DC 20230; telephone (202) 482-3813 and (202) 482-1503, respectively.

SUPPLEMENTARY INFORMATION:

Background

On August 6, 2004, the Department published the Notice of Preliminary Results and Partial Rescission of Antidumping Duty Administrative Review: Individually Quick Frozen Red Raspberries From Chile, 69 FR 47869 (August 6, 2004) (“Preliminary Results”) in the Federal Register.

On September 7, 2004, we received case briefs from The Pacific Northwest Berry Association and each of its individual members, Curt Maberry Farm, Enfield Farms, Inc., Maberry Packing, and Rader Farms, Inc. (collectively, “petitioners”), and Fruticola Olmue, S.A. (“Olmue”).

On September 17, 2004, we received rebuttal briefs from the petitioners, Olmue, H.J. Uren & Sons and Uren Chile S.A. (“Uren”), and Santiago Comercio Exterior Exportaciones Limitada (“SANCO”).

On October 28, 2004, we rejected Olmue's rebuttal brief because it contained new factual information. Olmue filed a revised rebuttal brief on November 1, 2004, redacting the new factual information submitted in the original rebuttal brief.

Scope of the Order

The products covered by this order are imports of individually quick frozen (“IQF”) whole or broken red raspberries from Chile, with or without the addition of sugar or syrup, regardless of variety, grade, size or horticulture method (e.g., organic or not), the size of the container in which packed, or the method of packing. The scope of the order excludes fresh red raspberries and block frozen red raspberries (i.e., puree, straight pack, juice stock, and juice concentrate).

The merchandise subject to this order is currently classifiable under 0811.20.2020 of the Harmonized Tariff Schedule of the United States (“HTSUS”). Although the HTSUS subheading is provided for convenience and customs purposes, the written description of the merchandise under the order is dispositive.

Period of Review

The period of review (“POR”) is December 31, 2001, through June 30, 2003.

Analysis of Comments Received

All issues raised in the case and rebuttal briefs by parties to this review are addressed in the February 2, 2005 Issues and Decision Memorandum for the First Antidumping Duty Administrative Review of Individually Quick Frozen Red Raspberries from Chile (“Decision Memorandum”), which is hereby adopted by this notice. Attached to this notice as an appendix is a list of the issues which parties have raised and to which we have responded in the Decision Memorandum. Parties can find a complete discussion of all issues raised in this review and the corresponding recommendations in this public memorandum which is on file in the Department's Central Records Unit, Room B-099 of the main Department building (“CRU”). In addition, a complete version of the Decision Memorandum can be accessed directly on the Web at http://ia.ita.doc.gov/frn/index.html. The paper copy and electronic version of the Decision Memorandum are identical in content.

Facts Otherwise Available

For the final results, the Department continues to find that Uren's largest supplier, which, as a producer of subject merchandise, is an interested party in this proceeding, did not act to the best of its ability by failing to provide cost of production information requested by the Department. Thus, the Department continues to find that the use of adverse facts available is warranted under section 776 of the Tariff Act of 1930, as amended effective January 1, 1995 (“the Act”), by the Uruguay Round Agreements Act (“URAA”). See Preliminary Results at 69 FR 47869, 47871-47873 and Decision Memorandum at Comment 3.

Fair Value Comparisons

To determine whether sales of IQF red raspberries from Chile to the United States were made at less than normal value, we compared export price (“EP”) to the normal value (“NV”). Our calculations followed the methodologies described in the preliminary results, except as noted below, and in the final results calculation memoranda cited below, which are on file in the CRU.

Export Price

We used EP as defined in section 772(a) of the Act. We calculated EP for Uren and SANCO based on the same methodologies described in the preliminary results. See “Uren Chile, S.A. Final Results Calculation Memorandum,” dated February 2, 2005, (“Uren Calculation Memorandum”) and “Santiago Comercio Exterior Exportaciones Limitada Calculation Memorandum,” dated February 2, 2005, (“SANCO Calculation Memorandum”). For Olmue, we calculated EP based on the same methodologies described in the preliminary results, with the exception of using a revised calculation of U.S. credit expenses. See “Fruticola Olmue, S.A. Final Results Calculation Memorandum,” dated February 2, 2005, (“Olmue Calculation Memorandum”).

Normal Value

A. Cost of Production

1. Calculation of Cost of Production

We calculated the cost of production (“COP”) in accordance with section 773(b)(3) of the Act. For SANCO and Olmue, we calculated the COP using the same methodologies described in the preliminary results. See SANCO Calculation Memorandum; see also Olmue Calculation Memorandum. For Uren, we calculated the COP using the same methodologies described in the preliminary results, with the exception of using a revised general and administrative expenses ratio. See Decision Memorandum at Comment 5; see also Uren Calculation Memorandum.

a. Test of Comparison Market Prices

We tested whether comparison market sales of the foreign like product were made at prices below the COP in accordance with section 773(b) of the Act, using the same methodologies described in the preliminary results.

b. Results of the COP Test

Pursuant to section 773(b)(1) of the Act, where less than 20 percent of a respondent's sales of a given product during the POR were at prices less than the COP, we do not disregard any below-cost sales of that product because we determine that in such instances the below-cost sales were not made in “substantial quantities.” Where 20 percent or more of a respondent's sales of a given product are at prices less than the COP, we determine that the below-cost sales represent “substantial quantities” within an extended period of time, in accordance with section 773(b)(1)(A) of the Act. In such cases, we also determine whether such sales were made at prices which would not permit recovery of all costs within a reasonable period of time, in accordance with section 773(b)(1)(B) of the Act.

We found that, for Olmue, SANCO and Uren, for certain specific products, more than 20 percent of the comparison market sales were at prices less than the COP and, thus, the below-cost sales were made within an extended period of time in substantial quantities. In addition, these sales were made at prices that did not provide for the recovery of costs within a reasonable period of time. We therefore excluded these sales and used the remaining sales, if any, as the basis for determining NV, in accordance with section 773(b)(1) of the Act.

For U.S. sales of subject merchandise for which there were no comparable comparison market sales in the ordinary course of trade (e.g., sales that passed the cost test), we compared those sales to constructed value (“CV”), in accordance with section 773(a)(4) of the Act.

B. Calculation of Constructed Value

We calculated CV in accordance with sections 773(e)(1) and (e)(2)(A) of the Act. We used the same methodologies described in the preliminary results. Where appropriate, we made the same adjustments to the CV costs as described in the “Calculation of COP” section of this notice.

C. Level of Trade

We continue to find that one level of trade (“LOT”) exists in the comparison and U.S. markets for Olmue and SANCO. For Uren, we continue to find that two LOTs exist in the comparison market and that one LOT exists in the U.S. market. See Decision Memorandum at Comment 4. Therefore, for the final results, we have continued to match Uren's U.S. sales with its comparison market sales at the same LOT, where possible, in accordance with section 773(a)(7)(A) of the Act. In comparing EP sales at a different LOT in the comparison market, where available data make it practicable, we make an LOT adjustment under section 773(a)(7)(A) of the Act.

D. Calculation of Normal Value Based on Comparison Market Prices

We calculated NV based on comparison market prices in accordance with section 773(a)(6) of the Act and 19 CFR 351.410 and 411 (2003). For SANCO and Olmue, we used the same methodologies described in the preliminary results. For Uren, we used the same methodologies described in the preliminary results, with the exception of using a we recalculated Uren'sindirect selling expenses ratio. See Decision Memorandum at Comment 5; see also Uren Calculation Memorandum.

E. Calculation of Normal Value Based on Constructed Value

We calculated NV based on CV using the same methodologies described in the preliminary results, in accordance with sections 773(a) of the Act and 19 CFR 351.410.

Final Results of the Review

For the firms listed below, we find that the following percentage margins exist for the period December 31, 2001, through June 30, 2003:

Exporter/manufacturer | Weighted-average margin percentage
Fruticola Olmue, S.A. | 1.23
Santiago Comercio Exterior Exportaciones, Ltda. | 0.25 (de minimis)
Uren Chile, S.A. | 13.41

Assessment Rates

The Department shall determine, and U.S. Customs and Border Protection (“CBP”) shall assess, antidumping duties on all appropriate entries. In accordance with 19 CFR 351.212(b), we have calculated importer (or customer)-specific assessment rates for merchandise subject to this review. To determine whether the duty assessment rates were de minimis (i.e., at or below 0.5 percent), in accordance with the requirement set forth in 19 CFR 351.106(C)(2), for each respondent we calculated importer (or customer)-specific ad valorem rates by aggregating the dumping margins calculated for all U.S. sales to that importer (or customer) and dividing this amount by the entered value of the sales to that importer (or customer). Where an importer (or customer)-specific ad valorem rate is greater than de minimis and the respondent has reported reliable entered values, we will apply the assessment rate to the entered value of the importer's/customer's entries during the review period. Where an importer (or customer)-specific ad valorem rate is greater than de minimis and we did not have entered values, we calculated a per-unit assessment rate by aggregating the dumping duties due for all U.S. sales to each importer (or customer) and dividing this amount by the total quantity sold to that importer (or customer).

The Department will issue appropriate assessment instructions directly to CBP within 15 days of publication of these final results of review.

Cash Deposit Requirements

The following cash deposit requirements will be effective for all shipments of the subject merchandise entered, or withdrawn from warehouse, for consumption on or after the publication date of the final results of this administrative review, as provided by section 751(a)(1) of the Act: (1) The cash deposit rates for the reviewed companies will be those established above in the “Final Results of the Review” section of this notice, except if the rate is less than 0.50 percent, and therefore, de minimis within the meaning of 19 CFR 351.106(c)(1), in which case the cash deposit rate will be zero; (2) if the exporter is not a firm covered in this review, but was covered in a previous review, or the original investigation, the cash deposit rate will continue to be the company-specific rate published for the most recent period; (3) if the exporter is not a firm covered in this review, a previous review, or the original investigation, but the manufacturer is, the cash deposit rate will be the rate established for the most recent period for the manufacturer of the merchandise; and (4) the cash deposit rate for all other manufacturers and/or exporters shall continue to be 6.33 percent, the “all others” rate made effective by the less-than-fair-value investigation. See 67 FR 45460 (July 9, 2002).

These requirements, when imposed, shall remain in effect until publication of the final results of the next administrative review.

Notification to Importers

This notice serves as a final reminder to importers of their responsibility under 19 CFR 402(f)(2) to file a certificate regarding the reimbursement of antidumping duties prior to liquidation of the relevant entries during this review period. Failure to comply with this requirement could result in the Secretary's presumption that reimbursement of antidumping duties occurred and the subsequent assessment of double antidumping duties.

Notification Regarding APOs

This notice also serves as the only reminder to parties subject to the administrative protective order (“APO”) of their responsibility concerning the disposition of proprietary information disclosed under APO in accordance with 19 CFR 351.305(a)(3), which continues to govern business proprietary information in this segment of the proceeding. Timely written notification of return/destruction of APO material or conversion to judicial protective order is hereby requested. Failure to comply with the regulation and the terms of an APO is a sanctionable violation.

This administrative review and notice are published in accordance with sections 751(a)(1) and 777(i)(1) of the Act and 19 CFR 351.221(b)(5).

Dated: February 2, 2005.
Barbara E. Tillman,
Acting Assistant Secretary for Import Administration.

Appendix I

List of Comments in the Issues and Decision Memorandum

General Comments

Comment 1: Calculation of Cost of Production

Comments Relating to Uren Chile, S.A.

Comment 2: Grower and Processor Affiliation

Comment 3: Application of Adverse Facts Available for Cost of Production

Comment 4: Level of Trade

Comment 5: Calculation of LOT Adjustment

Comment 6: Calculation of General and Administrative Expenses

Comment 7: Calculation of Financial Expense Ratio

Comments Relating to Fruticola Olmue, S.A.

Comment 8: Valuation of Olmue's Fresh Raspberries

Comment 9: Calculation of Financial Expense Ratio

Comment 10: Calculation of U.S. Credit Expense

Comment 11: Treatment of Unpaid Shipments

Comment 12: Start-up Adjustment

Comment 13: Treatment of Sales Made Above Normal Value

[FR Doc. E5-515 Filed 2-7-05; 8:45 am]

BILLING CODE 3510-DS-P